DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census of Puerto Rico and Outlying Areas.

Form Number(s): OA-97120, OA-97220, OA-97123, OA-97223, OA-97130, OA-97230, OA-97142, OA-97242,OA-97144, OA-97244, OA-97152, OA-97252, OA-97172, OA-97272, OA-97180, OA-97280, OA-97190, OA-97290, OA-98163, OA-98173, OA-98183, OA-98193.

Agency Approval Number: None.

Type of Request: New collection.

Burden: 55,750 hours in FY 2003.

Number of Respondents: 61,500.

Avg Hours Per Response: 55 minutes.

Needs and Uses: The Census Bureau plans to conduct the 2002 Economic Census of Puerto Rico and Island Areas, which in addition to Puerto Rico, includes Guam, the Commonwealth of the Northern Mariana Islands, the U.S. Virgin Islands, and American Samoa, as part of the 2002 Economic Census.

The 2002 Economic Census of Puerto Rico and Island Areas will cover the following sectors (as defined by the North American Industry Classification System (NAICS)): Mining, Utilities, Construction, Manufacturing; Wholesale and Retail Trades, Transportation and Warehousing, Information; Finance and Insurance; Real Estate and Rental and Leasing; Professional, Scientific, and Technical Services; Management of Companies and Enterprises; Administrative and Support, Waste Management and Remediation Services; Educational Services; Health Care and Social Assistance; Arts, Entertainment, and Recreation; Accommodation and Food Services; and Other Services (except Public Administration). This scope is equivalent to that of the stateside economic census.

The economic census provides the only source for dependable, comparable data at a geographic level consistent with U.S. counties. The 2002 Economic Census of Puerto Rico and Island Areas is particularly important because of the rapid and varied changes taking place in the economies of these areas. The economic census is the primary source of dependable facts about the structure and functioning of the economies of Puerto Rico and each of the Island Areas, and features the only recognized source of data at a geographic level equivalent to U.S. counties. Economic census statistics serve as part of the framework for the national accounts of Puerto Rico and the Island Areas and provide essential information for government (Federal and local), business, and the general public. The governments of Puerto Rico and the Island Areas rely on the economic census as an important part of the framework for the their income and product accounts, input-output tables, economic indexes, and other composite measures that serve as the factual basis for economic policy-making, planning, and program administration. Further, the census provides benchmarks for surveys of business which track short-term economic trends, serve as economic indicators, and contribute critical source data for current estimates of the gross product of Puerto Rico and the Island Areas. In addition, industry, business, academia, and the general public use information from the economic census for evaluating markets, preparing business plans, making business decisions, developing economic models and forecasts, conducting economic research, and establishing benchmarks for their own sample surveys.

Affected Public: Businesses or other for-profit; Individuals or households; State, local, or tribal government.

Frequency: One time.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202)482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: March 19, 2002.
Madeleine Clayton,
Departmental Paperwork Clearance Officer, Office of the Chief Information Officer.

[FR Doc. 02-6959 Filed 3-21-02; 8:45 am]

BILLING CODE 3510-07-P